DEPARTMENT OF HOMELAND SECURITY

Coast Guard

33 CFR Part 117

[Docket No. USCG-2008-0256]

RIN 1625-AA09

Drawbridge Operation Regulation; Duwamish Waterway, Seattle, WA, Schedule Change

AGENCY: Coast Guard, DHS.

ACTION: Notice of proposed rulemaking; withdrawal.

SUMMARY: The Coast Guard is withdrawing its notice of proposed rulemaking concerning drawbridge operations for the Spokane Street Bridge across the Duwamish Waterway, mile 0.3, in Seattle, Washington. The proposed rule would have established two daily closed draw periods Monday through Friday to help alleviate road traffic, with the proviso that openings would be provided at any time for vessels of 5000 gross tons or more. The proposed rule is being withdrawn because Spokane Street Bridge draw records along with road traffic counts conducted after the notice of proposed rulemaking was published indicate that the number of draw openings and the amount of traffic using the Spokane Street Bridge are not sufficient to warrant the negative impact that the proposed rule would have on commercial maritime traffic using the waterway under the bridge.

DATES: The notice of proposed rulemaking is withdrawn on October 21, 2008.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m, Monday through Friday, except Federal holidays. You may also find this docket on the Internet at http://www.regulations.gov.

FOR FURTHER INFORMATION CONTACT: If you have questions on this proposed rule, call Austin Pratt, Chief, Bridge Section, Waterways Management Branch, 13th Coast Guard District, at 206-220-7282. If you have questions on viewing the docket, call Renee V. Wright, Program Manager, Docket Operations, at 202-366-9826

SUPPLEMENTARY INFORMATION:

Background

On May 22, 2008, we published a notice of proposed rulemaking entitled “Drawbridge Operation Regulation; Duwamish Waterway, Seattle, WA, Schedule Change” in the Federal Register (73 FR 29723). The proposed rule would have established two daily closed draw periods for the Spokane Street Bridge across the Duwamish Waterway, mile 0.3, in Seattle, Washington, Monday through Friday to help alleviate road traffic, with the proviso that openings would be provided at any time for vessels of 5000 gross tons or more.

Withdrawal

The notice of proposed rulemaking is being withdrawn because the Spokane Street Bridge draw records along with road traffic counts conducted after the notice of proposed rulemaking was published indicate that the number of draw openings and amount of traffic using the Spokane Street Bridge are not sufficient to warrant the negative impact that the proposed rule would have on commercial maritime traffic using the waterway under the bridge.

Specifically, draw records indicate that the Spokane Street Bridge is opened an average of only two to three times per week during each of the proposed closed periods. While these openings halt traffic, the amount of traffic affected is much lower than other drawbridges in Seattle. Traffic counts on Spokane Street during the subject periods were also much lower than arterials like 15th Avenue and Montlake Avenue, which also cross drawbridges in Seattle.

The maritime traffic that would be affected by the proposed rule includes oceangoing ships, container barges, derrick barges, and other large vessels that require the drawspan to open. Tidal fluctuations are critical for many of these vessels to move in the waterway under the Spokane Street Bridge. The proposed closed periods would delay this maritime traffic as a result of the bridge being closed as well as the effect of the closures on the ability of the vessels to transit at the appropriate tide elevation. Such delays have a substantial negative effect on maritime commerce due to the necessity of timely transit and delivery of the cargo being carried.

The availability of a nearby alternate route was also considered. The West Seattle Bridge is a multi-lane, fixed, high-structure bridge immediately adjacent to the Spokane Street Bridge that can easily be used to transit to and from downtown Seattle instead of the Spokane Street Bridge, especially for that traffic which does not have a local destination at Harbor Island.

The Coast Guard received 80 total responses to the notice of proposed rulemaking. 18 were from commercial maritime entities with an interest in using the waterway under the bridge. All of these responses rejected the proposed change due to delays in the movement of maritime traffic that would result from the proposed rule. The remaining responses were from individual commuters, many of which were bicyclists, with an interest in using the Spokane Street Bridge itself. All of these responses endorsed the proposal in order to facilitate commuting to and from downtown Seattle. At least one response objected to the exemption for vessels of 5000 gross tons or greater and another suggested that the closure proposed for the morning hours was more vital than the afternoon.

Authority

This action is taken under the authority of 33 U.S.C. 499; 33 CFR 1.05-1; Department of Homeland Security Delegation No. 0170.1.

Dated: October 8, 2008.
J.P. Currier,
Rear Admiral, U.S. Coast Guard, Commander, Thirteenth Coast Guard District.

[FR Doc. E8-24985 Filed 10-20-08; 8:45 am]

BILLING CODE 4910-15-P